DEPARTMENT OF COMMERCE

National Oceanic and Atmospheric Administration

[I.D. 092700A]

Fisheries of the Exclusive Economic Zone Off Alaska; Recordkeeping and Reporting Requirements; Public Workshop

AGENCY: National Marine Fisheries Service (NMFS), National Oceanic and Atmospheric Administration (NOAA), Commerce.

ACTION: Notice of workshop.

SUMMARY: NMFS, Alaska Region, and the U.S. Coast Guard (USCG) North Pacific Regional Fisheries Training Center will present a workshop at FISH EXPO concerning 2001 recordkeeping and reporting (R&R) requirements for the Alaska groundfish fisheries.

DATES: The workshop will be held on Friday, November 17, 2000, from 10 a.m. to 12 noon, local time, Seattle, WA.

ADDRESSES: The workshop will be held in Room 310, FISH EXPO at the Washington State Trade and Convention Center, Seattle, WA.

FOR FURTHER INFORMATION CONTACT: Patsy A. Bearden, 907-586-7008.

SUPPLEMENTARY INFORMATION: The workshop will include discussion of proposed changes to the R&R requirements, codified at 50 CFR part 679, along with instructions for completion and submittal of the required forms and logsheets. Suggestions and feedback on existing procedures are welcome. Other R&R workshops are scheduled as follows; the times of these workshops will be decided at a later date.

1. January 4, 2001, NOAA/NMFS Alaska Fisheries Science Center, Building 9, Room A/B, Seattle, WA;

2. January 16, 2001, USCG Training Center, Kodiak, AK; and

3. January 18 and 19, 2001, Unalaska City Hall, Council Chambers, Unalaska, AK.

Special Accommodations

This workshop is physically accessible to people with disabilities. Requests for sign language interpretation or other auxiliary aids should be directed to Patsy Bearden at 907-586-7008 at least 7 working days prior to the meeting date.

Dated: September 28, 2000
Bruce C. Morehead,
Acting Director, Office of Sustainable Fisheries, National Marine Fisheries Service.

[FR Doc. 00-25480 Filed 10-3-00; 8:45 am]

BILLING CODE 3510-22-S